DEPARTMENT OF ENERGY

Environmental Management Site-Specific Advisory Board, Hanford

AGENCY: Department of Energy.

ACTION: Notice of Open Meeting.

SUMMARY: This notice announces a meeting of the Environmental Management Site-Specific Advisory Board (EM SSAB), Hanford. The Federal Advisory Committee Act (Pub. L. No. 92-463, 86 Stat. 770) requires that public notice of this meeting be announced in the Federal Register.

DATES: Thursday, April 3, 2008, 9 a.m.-5 p.m.; Friday, April 4, 2008, 8:30 a.m.-4 p.m.

ADDRESSES: Red Lion Hotel on the River, Jantzen Beach, Portland, 909 N. Hayden Island Drive, Portland, Oregon 97217, Phone: (503) 978-4586, Fax: (503) 735-4847.

FOR FURTHER INFORMATION CONTACT: Erik Olds, Federal Coordinator, Department of Energy Richland Operations Office, 2440 Stevens Drive, P.O. Box 450, H6-60, Richland, WA 99352; Phone: (509) 372-8656; or E-mail: Theodore_E_Erik_Olds@orp.doe.gov.

SUPPLEMENTARY INFORMATION: Purpose of the Board: The purpose of the Board is to make recommendations to DOE in the areas of environmental restoration, waste management, and related activities.

Tentative Agenda:

• Hanford's Fiscal Year 2009-2010 Budget

• Hanford's Central Plateau Waste Site Cleanup 200 PW-1, 3, 6 Proposed Plan

• Board letter to DOE on Groundwater 200 ZP-1 operable unit

• Letter to DOE on the technology working group

• Hanford 200 Area white paper written by the Environmental Protection Agency and Washington State Department of Ecology

• Configuration Control of Critical Assumptions

• Office of River Protection's Integrated System Plan

• Uniform Safety Systems throughout Hanford

• Update on Waste Management Conference held on February 24-28, 2008, in Phoenix, Arizona

• Committee Updates including: Tank Waste Committee; River and Plateau Committee; Health, Safety and Environmental Protection Committee; Public Involvement Committee; and Budgets and Contracts Committee

Public Participation: The meeting is open to the public. Written statements may be filed with the Board either before or after the meeting. Individuals who wish to make oral statements pertaining to agenda items should contact Erik Olds' office at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing or calling Erik Olds' office at the address or phone number listed above. Minutes will also be available at the following Web site: http://www.hanford.gov/?page=413&parent=397.

Issued at Washington, DC on February 26, 2008.
Rachel Samuel,
Deputy Committee Management Officer.

[FR Doc. E8-4216 Filed 3-4-08; 8:45 am]

BILLING CODE 6450-01-P